DEPARTMENT OF THE INTERIOR

National Park Service

[NPS-WASO-NAGPRA-NPS0027604; PPWOCRADN0-PCU00RP14.R50000]

Notice of Inventory Completion: The State Center Community College District—Fresno City College, Fresno, CA

AGENCY: National Park Service, Interior.

ACTION: Notice.

SUMMARY: The State Center Community College District—Fresno City College has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the State Center Community College District—Fresno City College. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the State Center Community College District—Fresno City College at the address in this notice by July 15, 2019.

ADDRESSES: Mary Beth Miller, Interim Dean of Social Sciences, in care of Jill Minar, Ph.D., Fresno City College of The State Center Community College District, 1101 East University Avenue, Fresno, CA 93741, telephone (559) 442-8210, email jill.minar@fresnocitycollege.edu.

SUPPLEMENTARY INFORMATION: Notice is here given in accordance with the Native American Graves Protection and Repatriation Act (NAGPRA), 25 U.S.C. 3003, of the completion of an inventory of human remains and associated funerary objects under the control of the State Center Community College District—Fresno City College, Fresno, CA. The human remains and associated funerary objects were removed from CA-FRE-571 and CA-FRE-706, Fresno County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the State Center Community College District—Fresno City College professional staff in consultation with representatives of the Big Sandy Rancheria of Western Mono Indians of California (previously listed as the Big Sandy Rancheria of Mono Indians of California); Buena Vista Rancheria of Me-Wuk Indians of California; Cold Springs Rancheria of Mono Indians of California; Middletown Rancheria of Pomo Indians of California; Northfork Rancheria of Mono Indians of California; Picayune Rancheria of Chukchansi Indians of California; Santa Rosa Indian Community of the Santa Rosa Rancheria, California; Shingle Springs Band of Miwok Indians, Shingle Springs Rancheria (Verona Tract), California; Table Mountain Rancheria (previously listed as the Table Mountain Rancheria of California); Tejon Indian Tribe; Tule River Indian Tribe of the Tule River Reservation, California; and the Tuolumne Band of Me-Wuk Indians of the Tuolumne Rancheria of California.

The California Valley Miwok Tribe, California; Chicken Ranch Rancheria of Me-Wuk Indians of California; Fort McDermitt Paiute and Shoshone Tribes of the Fort McDermitt Indian Reservation, Nevada and Oregon; Ione Band of Miwok Indians of California; Jackson Band of Miwuk Indians (previously listed as the Jackson Rancheria of Me-Wuk Indians of California); Pyramid Lake Paiute Tribe of the Pyramid Lake Reservation, Nevada; Reno-Sparks Indian Colony, Nevada; Walker River Paiute Tribe of the Walker River Reservation, Nevada; and the Yerington Paiute Tribe of the Yerington Colony & Campbell Ranch, Nevada were invited to consult, but did not participate.

Two non-federally recognized groups, the Dunlap Band of Mono Indians and the Traditional Choinumni Tribe, participated in consultation. One non-federally recognized group, the Wukchumni Tribe, was invited to consult, but did not participate.

Hereafter, all the Indian Tribes and non-federally recognized Indian groups listed in this section are referred to as “The Consulted and Notified Tribes and Groups.”

History and Description of the Remains

In 1977, human remains representing, at minimum, one individual were removed from CA-FRE-571 in Fresno County, CA. The site was excavated by Don Wren as part of the Pacific Gas and Electric Helms Project. Funded by a 2016 NAGPRA Consultation/Documentation grant awarded to the State Center Community College District, in January 2017, an osteological examination of the faunal collections was conducted to determine if human remains were present. That examination resulted in the identification of the human remains described in this inventory. The fragmentary human remains belong to one sub-adult of indeterminate sex. No known individuals were identified. No associated funerary objects are present.

In 1979, 1983, and 1984, human remains representing, at minimum, five individuals were removed from CA-FRE-706 in Fresno County, CA. This site was excavated by Fresno City College instructor Don Wren and his students for the Milne's Project, which is located on private property. Funded by a 2016 NAGPRA Consultation/Documentation grant awarded to the State Center Community College District, in January 2017, an osteological examination of the faunal collections was conducted to determine if human remains were present. That examination resulted in the identification of the human remains described in this inventory. The fragmentary human remains belong to one adult female, one adult of indeterminate sex, and three sub-adults of indeterminate sex. No known individuals were identified. The 452 associated funerary objects are one bone bead, one lot of bone bead fragments, 180 glass trade beads, one lot of glass trade bead fragments, 171 shell beads, one lot of shell bead fragments, 90 steatite beads, one lot of steatite bead fragments, one steatite pendant fragment, one abalone shell pendant, one steatite nutting stone, one steatite shaft smoother, one lot ochre, one lot steatite sherds, flakes, and fragments.

Determinations Made by the State Center Community College District—Fresno City College

Officials of the State Center Community College District—Fresno City College have determined that:

• Pursuant to 25 U.S.C. 3001(9), the human remains described in this notice represent the physical remains of six individuals of Native American ancestry based on the archeological context.

• Pursuant to 25 U.S.C. 3001(3)(A), the 452 objects described in this notice are reasonably believed to have been placed with or near individual human remains at the time of death or later as part of the death rite or ceremony.

• Pursuant to 25 U.S.C. 3001(2), there is a relationship of shared group identity that can be reasonably traced between the Native American human remains and associated funerary objects and the Cold Springs Rancheria of Mono Indians of California, based on geographical and oral traditional information.

Additional Requestors and Disposition

Lineal descendants or representatives of any Indian Tribe or Native Hawaiian organization not identified in this notice that wish to request transfer of control of these human remains and associated funerary objects should submit a written request with information in support of the request to Mary Beth Miller, Interim Dean of Social Sciences, in care of Jill Minar, Ph.D., Fresno City College of The State Center Community College District, 1101 East University Avenue, Fresno, CA 93741, telephone (559) 442-8210, email jill.minar@fresnocitycollege.edu, by July 15, 2019. After that date, if no additional requestors have come forward, transfer of control of the human remains and associated funerary objects to the Cold Springs Rancheria of Mono Indians of California may proceed.

The State Center Community College District—Fresno City College is responsible for notifying The Consulted and Notified Tribes and Groups that this notice has been published.

Dated: May 14, 2019.
Melanie O'Brien,
Manager, National NAGPRA Program.

[FR Doc. 2019-12464 Filed 6-12-19; 8:45 am]

BILLING CODE 4312-52-P